DEPARTMENT OF TRANSPORTATION

Federal Aviation Administration

Research, Engineering and Development (R,E&D) Advisory Committee

Pursuant to section 10(A)(2) of the Federal Advisory Committee Act (Public Law 92-463; 5 U.S.C. App. 2), notice is hereby given of a meeting of the FAA Research, Engineering and Development (R,E&D) Advisory Committee.

AGENCY: Federal Aviation Administration.

ACTION: Notice of meeting.

Name: Research, Engineering & Development Advisory Committee.

Time and Date: April 23—9 a.m.-5 p.m.; April 24—10 a.m.-3 p.m.

Place: Holiday Inn Rosslyn Westpark Hotel, 1900 North Fort Myer Drive, Arlington, Virginia 22209.

Purpose: The meeting agenda will include receiving recommendations from the standing Subcommittees or FAA's research and development investments in the areas of air traffic services, airports, aircraft safety, security, human factors and environment and energy.

Attendance is open to the interested public but limited to space available. Persons wishing to attend the meeting or obtain information should contact Gloria Dunderman (gloria,ctr.dunderman@faa.gov) at the Federal Aviation Administration, AAR-200, 800 Independence Avenue, SW., Washington, DC 20591 (202) 267-8937. Please inform us if you are in need of assistance or require a reasonable accommodation for this meeting.

Members of the public may present a written statement to the Committee at any time.

Issued in Washington, DC on March 18, 2002.
Herman A. Rediess,
Director, Office of Aviation Research.

[FR Doc. 02-6969 Filed 3-21-02; 8:45 am]

BILLING CODE 4910-13-M